DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 69 FR 4302-4303, dated January 29, 2004) is amended to reflect the consolidation of administrative functions within the Office of the Director, Office of the Chief Operating Officer, Centers for Disease Control and Prevention, into one single organizational component entitled the Administrative Services and Programs Office.

Section C-B, Organization and Functions, is hereby amended as follows:

Following the title and functional statement for the Office of the Director (CAJ1), Office of the Chief Operating Officer (CAJ), insert the following:

Administrative Services and Programs Office (CAJ12). (1) Plans, coordinates, and provides administrative and management advice and guidance for the OD; (2) provides and coordinates OD-wide administrative, management, and support services in the areas of personnel, travel, procurement, facility management, and other administrative services; (3) plans, develops, and implements OD-wide policies, procedures, and practices for administrative management, acquisition and assistance mechanisms, including contracts and memoranda of agreement, discretionary and block grants, and cooperative agreements; (4) coordinates OD requirements relating to small purchase procurements, VISA procurements, materiel management, and intra-agency agreements/reimbursable agreements; (5) coordinates facility management issues, problems and changes, physical security issues, and policies regarding telecommunications, office furniture and equipment; (6) maintains liaison with Centers, Institute and Offices, Staff Offices, Staff Service Offices, and OD staff; (7) provides guidance and coordination to the OD Offices on cross-divisional negotiated agreements; (8) facilitates and provides consultation on human resource management issues; (9) advocates the use of information technology to strengthen the communications among the divisions, field staff, and partners; (10) plans, coordinates, and implements training for the OD's Divisions' administrative personnel; (11) provides OD-wide management training to supervisors, managers and team leaders.

Delete the functional statement for the Office of the Director (CAJ1), Office of the Chief Operating Officer (CAJ), and insert the following:

(1) Manages and directs the activities and functions of the Office of the Chief Operating Officer; (2) provides guidance and support in the conduct and evaluation of program support, business services, and management activities performed for or by Centers/Institute/Offices; (3) participates in the development of CDC's goals and objectives; (4) advises and assists the Director, CDC, the Chief Operating Officer, and other key officials on all aspects of the mission, activities and functions of the Office of the Chief Operating Officer; (5) resolves and responds to external inquiries of current fiscal year funding expenditures; (6) plans and coordinates facility management issues, problems and changes, and physical security issues; and (7) plans and coordinates the implementation of various federal administrative, statutory, regulatory, and policy requirements.

Delete the functional statement for the Office of the Director (CAJ31), Facilities Planning and Management Office (CAJ3), and insert the following:

(1) Plans, directs, and coordinates the functions and activities of the Facilities Planning and Management Office (FPMO); (2) provides leadership and strategic support to senior managers in the determination of CDC's long term facilities needs; (3) directs the operations of FPMO staff involved in the planning, evaluation, design, construction, and management of facilities and acquisition of property; (4) processes data for management and control systems and develops reports and analyses; and (5) assists and advises senior CDC officials in the development, coordination, direction, and assessment of facilities and real property activities throughout CDC's facilities and operations, and assures consideration of facilities management implications in program decisions.

Delete the functional statement for the Administrative and Program Services Activity (CAJ512), Office of the Director (CAJ51), Information Resources Management Office (CAJ5) and insert the following:

(1) Provides assistance in formulating, developing, negotiating, managing, and administering various Information Resources Management Office and CDC-wide technology and service contracts; (2) maintains liaison with the staffs of other offices within the Office of the Chief Operating Officer and the administrative offices of the CIOs.

Delete the functional statement for the Office of the Director (CA11), Office of Health and Safety (CA1) and insert the following:

(1) Provides leadership in developing and implementing the CDC Health and Safety Program (HSP); (2) coordinates the systematic inspection of facilities and critical review and evaluation of procedures and practices in relation to health and safety; provides recommendations for correction of inappropriate or unsafe conditions to appropriate management officials and monitors for compliance, taking appropriate action when necessary to ensure satisfactory remediation; (3) develops or ensures development of health and safety policies, rules, and recommendations, and critically reviews those from other CDC programs and locations; (4) serves as Executive Secretary of the Health and Safety Advisory Board and the Occupational Health and Safety Committee; (5) advises the Associate Director for Science and the Director, CDC, on health and safety related issues; (6) collects and analyzes health and safety data essential to the planning, implementation, and evaluation of the HSP; (7) takes the lead in developing and implementing safety awareness and health promotion programs for workers, supervisors, and management officials; (8) coordinates the review of plans and specifications of new construction and renovations for biosafety and biocontainment requirements, for asbestos management, and for compliance with applicable standards and codes; (9) provides oversight for the Employee Health Services Clinic in Atlanta which provides a program of medical surveillance, preventative occupational medical services, and health promotion; ensures confidentiality of employee health records to the extent legally possible; (10) ensures that OHS provides expertise to local safety committees and collateral duty safety officers and provides assistance when requested; (11) provides for risk assessments not provided by the Branches; (12) provides consultation and direct support to workers, supervisors, and management officials on all aspects of the HSP; (13) makes available specialized training and/or training materials relative to health and safety; (14) ensures the regular critical review and updating of health and safety related publications including Biosafety in Microbiological and Biomedical Laboratories; (15) ensures the drafting, publication, and subsequent regular review and evaluation of a comprehensive Health and Safety Manual; (16) coordinates the development and maintenance of appropriate emergency plans and ensures that they are communicated to all concerned employees; (17) maintains liaison with appropriate Department and Agency officials on health and safety matters; (18) consults with individuals and organizations nationally and internationally on health and safety issues; (19) coordinates activities relative to the implementation of National Environmental Protection Agency (NEPA) for CDC activities and facilities.

Delete the functional statement for the Resource Management Activity (CA113), Office of the Director (CA11), Office of Health and Safety (CA1) and insert the following:

(1) Manages OHS centralized computer databases and internal applications; (2) develops and coordinates the implementation of security programs; (3) designs, implements, and evaluates OHS communication strategies including marketing messages, materials, and methods; (4) provides oversight for the Employee Health Services Clinic and the Worksite Health Promotion Programs for employees in the Atlanta area and for the Employee Assistance Program for employees based in Atlanta and remote locations.

Dated: March 2, 2004.
William H. Gimson,
Chief Operating Officer, Centers for Disease Control and Prevention.

[FR Doc. 04-5317 Filed 3-9-04; 8:45 am]

BILLING CODE 4160-18-M